DEPARTMENT OF COMMERCE

International Trade Administration

[A-421-701]

Brass Sheet and Strip from the Netherlands; Notice of Second Amended Final Results of Administrative Review in Accordance With Final Court Decision

AGENCY: Import Administration, International Trade Administration, Department of Commerce.

SUMMARY: On September 29, 1998, the U.S. Court of International Trade (the Court) affirmed the Department of Commerce's (the Department's) remand determination of the final results of the antidumping duty administrative review of brass sheet and strip from the Netherlands. No party has appealed this ruling. As there is now a final and conclusive court decision in this action, we are amending our final results.

EFFECTIVE DATE: March 27, 2000.

FOR FURTHER INFORMATION CONTACT: John Brinkmann or Jarrod Goldfeder, Office of AD/CVD Enforcement VI, Group II, Import Administration, International Trade Administration, U.S. Department of Commerce, 14th Street and Constitution Avenue, N.W., Washington, D.C. 20230; telephone: (202) 482-4126 or (202) 482-2305, respectively.

SUPPLEMENTARY INFORMATION:

Background

On January 19, 1996, the Department published the final results of the third administrative review in Brass Sheet and Strip from the Netherlands (61 FR 1324) (Brass Final), covering the period of review (POR) August 1, 1990 through July 31, 1991. On February 12, 1996, the Department received timely allegations from the petitioners and the respondent that the Department had made certain ministerial errors in the Brass Final that affected the final dumping margin. Although the Department agreed that certain of the allegations constituted ministerial errors, the Department was unable to issue a determination correcting these errors before the petitioners filed a complaint with the Court challenging the Brass Final. Therefore, the Department requested leave from the Court to correct these errors and on August 1, 1996, the Court granted the Department's request. See August 1, 1996 Order, Hussey Copper, Ltd. v. United States, Ct. No. 96-02-00578 (CIT dismissed August 7, 1997). Accordingly, on June 19, 1997, the Department published amended final results (62 FR 33395) (Amended Brass Final).

In the original Brass Final, the U.S. sales database used to calculate the dumping margin included all entries made during the POR, regardless of date of sale. The respondent alleged that in addition to correcting the ministerial errors identified in the Court's August 1, 1996 order, in the Amended Brass Final the Department also excluded several purchase price (PP) transactions and one exporter's sales price (ESP) transaction that entered the United States during, but were sold prior to, the POR. Consequently, the respondent claimed that these changes reduced the number of transactions included in the database from 391 to 150 and increased the weighted-average dumping margin to 5.85%. The Department agreed that it should not have omitted these transactions from the U.S. sales database and requested that the Court remand the case in order to reinstate the excluded transactions.

Given that the exclusion of transactions from the U.S. sales database used to calculate the dumping margin was neither requested by the parties pursuant to the first remand request nor authorized by the Court in its first remand order, the Court remanded the Amended Brass Final. See Outokumpu Copper Strip, B.V. v. United States, 15 F. Supp. 2d 806 (CIT 1998). On remand, the Court instructed the Department to recalculate the dumping margins by including in the U.S. sales database (1) all PP transactions of merchandise sold prior to the POR but entered during the POR, and (2) the ESP transaction omitted from the Amended Brass Final, and to issue new amended final results.

On September 29, 1998, the Court affirmed the Department's remand results, finding that the Department had complied with the Court's Remand by correcting the two ministerial errors and recalculating the dumping margin for Outokumpu Copper Rolled Products. See Outokumpu Copper Strip, B.V. v. United States, 24 F. Supp. 2d 318 (CIT 1998). The Court dismissed the case, given that all issues had been decided. No appeal has been filed in this case.

Amendment to Final Results of Review

Because there is now a final and conclusive decision in the court proceeding, effective as of the publication date of this notice, we are amending the Amended Brass Final, and establishing the following revised weighted-average dumping margin for the period August 1, 1990 through July 31, 1991:

Manufacturer/exporter | Weighted-average margin (percent)
Outokumpu Copper Rolled Products AB (OBV) | 2.03

As the assessment rate is the same as the weighted-average dumping margin, the Department will instruct the United States Customs Service to assess the revised antidumping duty on all appropriate entries. The Department will issue appraisement instructions directly to the Customs Service.

Dated: March 20, 2000.
Richard Moreland,
Acting Assistant Secretary for Import Administration.

[FR Doc. 00-7492 Filed 3-24-00; 8:45 am]

BILLING CODE 3510-DS-P